DEPARTMENT OF ENERGY

Federal Energy Regulatory Commission

[Docket No. EC03-53-003, et al.]

Ameren Energy Generating Company, et al.; Electric Rate and Corporate Filings

June 10, 2003.

The following filings have been made with the Commission. The filings are listed in ascending order within each docket classification.

1. Ameren Energy Generating Company, and Union Electric Company, d/b/a Ameren UE

[Docket No. EC03-53-003]

Take notice that on June 4, 2003, Ameren Energy Generating Company and Union Electric Company d/b/a AmerenUE (AmerenUE), (collectively Applicants) tendered for filing with the Federal Energy Regulatory Commission (Commission) compliance filing containing the accounting entries and related details as required by Section 33.5 of the Commission's regulations in compliance with the Commission's order of May 5, 2003 in this docket. Ameren Energy Generating Co., 103 FERC 61,128 (2003) (May 5 Order).

Applicants state that copies of this filing were served on the affected state commissions and all parties included on the Commission's official service list established in the proceeding.

Comment Date: June 25, 2003.

2. Covanta Hennepin Energy Resource Co., Limited Partnership

[Docket No. EC03-95-000]

Take notice that on June 5, 2003, Covanta Hennepin Energy Resource Co., Limited Partnership (Hennepin Energy) filed with the Federal Energy Regulatory Commission (Commission) an application pursuant to Section 203 of the Federal Power Act for authorization to transfer a jurisdictional facility. Hennepin Energy requests authority to transfer its interest in a long-term power purchase agreement with Northern States Power Company to Hennepin County, Minnesota.

Comment Date: June 26, 2003.

3. NRG Energy Center Paxton, Inc.

[Docket No. ER00-2313-001]

Take notice that on June 6, 2003, NRG Energy Center Paxton, Inc., tendered for filing a triennial review in compliance with the Commission's Order in Docket No. ER00-2313-000.

Comment Date: June 27, 2003.

4. Arizona Public Service Company

[Docket No. ER03-889-001]

El Paso Electric Company

Public Service Company of New Mexico

Southern California Edison Company

Take notice that on June 6, 2003, Arizona Public Service Company, El Paso Electric Company, Public Service Company of New Mexico, and Southern California Edison Company tendered for filing a correction to El Paso Electric Company's designation number associated with the Service Agreement for the Interconnection and Operating Agreement related to the interconnection of the RUDD Transmission Line to the ANPP High Voltage Switchyard.

Comment Date: June 27, 2003.

5. White Pine Copper Refinery, Inc.

[Docket No. ER03-895-001]

Take notice that on June 6, 2003, White Pine Copper Refinery, Inc. (White Pine) tendered for filing with the Commission an amendment to their May 30, 2003 filing, requesting that the Commission accept, on a limited and temporary basis, White Pine's FERC Electric Rate Schedule No. 1; the granting of certain blanket approvals, including the authority to sell electricity at market-based rates; and the waiver of certain Commission regulations. White Pine states that the amended filing makes minor revisions to, and provides clarification of, discrete aspects of the May 30, 2003 filing.

Comment Date: June 27, 2003.

6. Portland General Electric Company

[Docket No. ER03-928-000]

Take notice that on June 5, 2003, Portland General Electric Company (PGE) tendered for filing an executed Facility Interconnection and Operation Agreement between PGE and SP Newsprint Co., (SP Newsprint).

PGE requests a waiver of the Commission's 60-day notice requirement and an effective date of May 12, 2003. PGE also states that a copy of the filing was served upon SP Newsprint and the Oregon Public Utility Commission.

Comment Date: June 26, 2003.

7. NRG Energy Center Paxton, Inc.

[Docket No. ER03-933-000]

Take notice that on June 6, 2003, NRG Energy Center Paxton, Inc., (Paxton) filed under section 205 of the Federal Power Act, Part 35 of the regulations of the Federal Energy Regulatory Commission (Commission), and Commission Order No. 614, a request that the Commission (1) accept for filing a revised market-based rate tariff; (2) waive any obligation to submit a red-lined version of the currently effective tariff; and (3) grant any waivers necessary to make the revised tariff sheets effective on June 30, 2003. Paxton states that the proposed tariff revisions merely seek to properly update the name of the entity, as well as designate, update and conform the tariff to a format like those that the Commission has approved for Paxton's affiliates.

Comment Date: June 27, 2003.

8. Florida Power Corporation

[Docket No. ER03-934-000]

Take notice that on June 6, 2003, Florida Power Corporation (FPC), tendered for filing revisions to a service agreement between FPC and the City of Quincy, Florida. FPC requests that the revisions become effective on January 1, 2003.

FPC states that copies of the filing were served upon the Florida Public Service Commission and the City of Quincy, Florida.

Comment Date: June 27, 2003.

9. Florida Power Corporation

[Docket No. ER03-935-000]

Take notice that on June 6, 2003, Florida Power Corporation (FPC), tendered for filing revisions to Rate Schedule No.124, pursuant to which FPC provides to the City of Williston, Florida electric power and energy at wholesale. FPC requests that the revisions become effective on January 1, 2003.

FPC states that copies of the filing were served upon the Florida Public Service Commission and the City of Williston, Florida.

Comment Date: June 27, 2003.

10. Florida Power Corporation

[Docket No. ER03-936-000]

Take notice that on June 6, 2003, Florida Power Corporation (FPC), tendered for filing revisions to Rate Schedule No. 126, an agreement for the sale of electric power and energy at wholesale by FPC to the City of Chattahoochee, Florida. FPC requests that the revisions become effective on January 1, 2003.

FPC states that copies of the filing were served upon the Florida Public Service Commission and the City of Chattahoochee, Florida.

Comment Date: June 27, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-15267 Filed 6-16-03; 8:45 am]

BILLING CODE 6717-01-P